DEPARTMENT OF ENERGY

Federal Energy Regulatory Commission

Notice of Application for Amendment of License and Soliciting Comments, Motions To Intervene, and Protests

January 28, 2003.

Take notice that the following application has been filed with the Commission and is available for public inspection:

a. Applicant Type: Amendment of License to Change Project Boundary.

b. Project No: 2192-010.

c. Date Filed: July 30, 2002.

d. Applicant: Consolidated Water Power Company.

e. Name of Project: Biron Hydroelectric Project.

f. Location: The Biron Hydroelectric Project is located on the Wisconsin River, in Wood and Portage Counties, Wisconsin.

g. Filed Pursuant to: Federal Power Act, 16 U.S.C. 791(a)-825 ( r ) and ** 799 and 801.

h. Applicant Contact: Mark E. Anderson, Resources Coordinator, Consolidated Water Power Company, General Offices, P.O. Box 8050, Wisconsin Rapids, WI 54495-8050, (715) 422-3927, or e-mail mark.anderson@storaenso.com.

i. FERC Contact: Any questions on this notice should be addressed to Etta Foster at (202) 502-8769, or e-mail address: etta.foster@ferc.gov.

j. Deadline for filing comments and/or motions: February 28, 2003.

All documents (original and eight copies) should be filed with: Magalie R. Salas, Secretary, Federal Energy Regulatory Commission, 888 First Street, NE., Washington, DC 20426. Please include the project number (P-2192-010) on any comments or motions filed.

k. Description of Request: Consolidated Water Power Company (CWPCo) is proposing a land swap with a local resident, Joe Berry. The affected parcels are located within Section 26, T23N, R6E, Town of Rudolph, Wood County, Wisconsin. Lot 1 contains 19.28 acres owned by CWPCo, and Lot 2 contains 9.18 acres owned by Joe Berry. The exchange would provide CWPCo with additional land to provide pedestrian access to the project and also provide additional land to buffer the existing wetlands. CWPCo requests that the project boundary be changed to include the 9.18 acres, and to remove the 19.28 acres conveyed to Mr. Berry from the project.

l. Location of the Application: A copy of the application is available for inspection and reproduction at the Commission's Public Reference Room, located at 888 First Street, NE., Room 2A, Washington, DC 20426, or by calling (202) 502-8371. This filing may also be viewed on the Commission's Web site at http://www.ferc.gov using the “FERRIS” link. Enter the docket number excluding the last three digits in the docket number field to access the document. For assistance, please contact FERC Online Support at FERCOnlineSupport@ferc.gov or toll-free at (866)208-3676, or for TTY, contact (202) 502-8659. A copy is also available for inspection and reproduction at the address in item (h) above.

m. Individuals desiring to be included on the Commission's mailing list should so indicate by writing to the Secretary of the Commission.

n. Comments, Protests, or Motions to Intervene-Anyone may submit comments, a protest, or a motion to intervene in accordance with the requirements of rules of practice and procedure, 18 CFR 385.210, .211, .214. In determining the appropriate action to take, the Commission will consider all protests or other comments filed, but only those who file a motion to intervene in accordance with the Commission's rules may become a party to the proceeding. Any comments, protests, or motions to intervene must be received on or before the specified comment date for the particular application.

o. Filing and Service of Responsive Documents-Any filings must bear in all capital letters the title “COMMENTS”, “PROTEST”, OR “MOTION TO INTERVENE”, as applicable, and the Project Number of the particular application to which the filing refers. A copy of any motion to intervene must also be served upon each representative of the Applicant specified in the particular application.

p. Agency Comments-Federal, state, and local agencies are invited to file comments on the described application. A copy of the application may be obtained by agencies directly from the Applicant. If an agency does not file comments within the time specified for filing comments, it will be presumed to have no comments. One copy of an agency's comments must also be sent to the Applicant's representatives. q. Comments, protests and interventions may be filed electronically via the Internet in lieu of paper. See 18 CFR 385.2001(a)(1)(iii) and the instructions on the Commission's Web site at http://www.ferc.gov under the “e-filing” link.

Magalie R. Salas,
Secretary.

[FR Doc. 03-2388 Filed 1-31-03; 8:45 am]

BILLING CODE 6717-01-P